DEPARTMENT OF LABOR

Employment and Training Administration

[TA-W-39,819]

Engineered Sintered Components Troutman, NC; Notice of Termination of Investigation

Pursuant to section 221 of the Trade Act of 1974, and investigation was initiated on August 13, 2001 in response to a worker petition which was filed by a company official on behalf of workers at Engineered Sintered Components, Troutman, North Carolina.

The petitioner has requested that the petition be withdrawn. Consequently, further investigation in this case would serve no purpose, and their investigation has been terminated.

Signed in Washington, DC this 28th day of November, 2001.
Linda G. Poole,
Certifying Officer, Division of Trade Adjustment Assistance.

[FR Doc. 01-31145 Filed 12-17-01; 8:45 am]

BILLING CODE 4510-30-M